NATIONAL AERONAUTICS AND SPACE ADMINISTRATION

48 CFR Parts 1813 Through 1817

RIN 2700-AC83

Re-Issuance of NASA FAR Supplement Parts 1813 Through 1817

AGENCY: National Aeronautics and Space Administration.

ACTION: Proposed rule.

SUMMARY: This proposed rule would amend the NASA FAR Supplement (NFS) by removing from the Code of Federal Regulations (CFR) those portions of the NFS containing information that consists of internal Agency administrative procedures and guidance that does not control the relationship between NASA and contractors or prospective contractors. This change is consistent with the guidance and policy in FAR part 1 regarding what comprises the Federal Acquisition Regulations System and requires publication for public comment. The NFS document will continue to contain both information requiring codification in the CFR and internal Agency guidance in a single document that is available on the Internet. This change will reduce the administrative burden and time associated with maintaining the NFS by only publishing in the Federal Register for codification in the CFR material that is subject to public comment.

DATES: Comments should be submitted on or before February 20, 2004, to be considered in formulation of the final rule.

ADDRESSES: Interested parties should submit written comments to Celeste Dalton, NASA, Office of Procurement, Contract Management Division (Code HK), Washington, DC 20546 or via the Internet at Celeste.M.Dalton@nasa.gov.

FOR FURTHER INFORMATION CONTACT: Celeste Dalton, NASA, Office of Procurement, Contract Management Division (Code HK); (202) 358-1645; e-mail: Celeste.M.Dalton@nasa.gov.

SUPPLEMENTARY INFORMATION:

A. Background

Currently the NASA FAR Supplement (NFS) contains information to implement or supplement the FAR. This information contains NASA's policies, procedures, contract clauses, solicitation provisions, and forms that govern the contracting process or otherwise control the relationship between NASA and contractors or prospective contractors. The NFS also contains information that consists of internal Agency administrative procedures and guidance that does not control the relationship between NASA and contractors or prospective contractors. Regardless of the nature of the information, as a policy, NASA has submitted to the Office of Information and Regulatory Affairs (OIRA) within the Office of Management and Budget (OMB) and published in the Federal Register all changes to the NFS. FAR 1.101 states in part that the “Federal Acquisition Regulations System consists of the Federal Acquisition Regulation (FAR), which is the primary document, and agency acquisition regulations that implement or supplement the FAR. The FAR System does not include internal agency guidance of the type described in 1.301(a)(2).” FAR 1.301(a)(2) states in part “an agency head may issue or authorize the issuance of internal agency guidance at any organizational level (e.g., designations and delegations of authority, assignments of responsibilities, work-flow procedures, and internal reporting requirements).” Further, FAR 1.303 states that issuances under FAR 1.301(a)(2) need not be published in the Federal Register. Based on the foregoing, NASA is not required to publish and codify internal Agency guidance.

This proposed rule will modify the existing practice by only publishing those regulations which may have a significant effect beyond the internal operating procedures of the Agency or have a significant cost or administrative impact on contractors or offerors.

The NFS will continue to integrate into a single document both regulations subject to public comments and internal Agency guidance and procedures that do not require public comment. Those portions of the NFS that require public comment will continue to be amended by publishing changes in the Federal Register. NFS regulations that require public comment are issued as chapter 18 of title 48 CFR. Changes to portions of the regulations contained in the CFR, along with changes to internal guidance and procedures, will be incorporated into the NASA-maintained Internet version of the NFS through Procurement Notices (PNs). The single official NASA-maintained version of the NFS will remain available on the Internet. NASA personnel must comply with all regulatory and internal guidance and procedures contained in the NFS.

This change will result in savings in terms of the number of rules subject to publication in the Federal Register and provide greater responsiveness to internal administrative changes.

B. Regulatory Flexibility Act

This proposed rule is not expected to have a significant economic impact on a substantial number of small entities with the meaning of the Regulatory Flexibility Act, 5 U.S.C. 601 et seq., because this rule would only remove from the CFR information that is considered internal Agency administrative procedures and guidance. The information removed from the CFR will continue to be made available to the public via the Internet.

C. Paperwork Reduction Act

The Paperwork Reduction Act does not apply because the changes do not impose recordkeeping or information collection requirements which require the approval of the Office of Management and Budget under 44 U.S.C. 3501 et seq.

List of Subjects in 48 CFR Parts 1813 Through 1817

Government procurement.

Tom Luedtke,
Assistant Administrator for Procurement.

Accordingly, 48 CFR parts 1813 through 1817 are proposed to be amended as follows:

1. The authority citation for 48 CFR parts 1813 through 1817, continues to read as follows:

Authority: 42 U.S.C. 2473(c)(1).

PART 1813—SIMPLIFIED ACQUSITION PROCEDURES

2. Amend Part 1813 by removing Subpart 1813.1 and sections 1813.301, 1813.301-70, 1813.301-71, 1813.301-72, 1813.701-73, 1813.302, 1813.302-1, 1813.302-70, 1813.303, 1813.303-3, and 1813.307.

PART 1814—SEALED BIDDING

3. Amend Part 1814 by removing sections 1814.201, 1814.201-5, and Subpart 1814.4.

PART 1815—CONTRACTING BY NEGOTIATION

4. Amend Part 1815 by —

(a) Removing sections 1815.201, 1815.203, 1815.203-70, 1815.203-71, 1815.204, 1815.204-2, 1815.204-5, 1815.204-70;

(b) In the first sentence of paragraph (b) of section 1815.208 removing “(see 1872.705-1 paragraph VII)”;

(c) Removing sections 1815.300, 1815.300-70, 1815.303, 1815.304, 1815.304-70, 1815.305, 1815.305-71, 1815.306(d)(3), 1815.307, 1815.308, 1815.370, 1815.403-1, 1815.403-3, 1815.403-4, 1815.404, 1815.404-2, 1815.404-4, 1815.404-470, 1815.404-471-1, 1815.404-471-2, 1815.404-471-3, 1815.404-471-4, 1815.404-471-5, 1815.404-471-6, 1815.406, 1815.406-1, 1815.406-170, 1815.406-171, 1815.406-172, 1815.406-3;

(d) Removing “in 1816.603” in the last sentence of section 1815.504; removing sections 1815.506, 1815.506-70;

(e) In section 1815.604, redesignating paragraph (a) as (a)(6); and

(f) Removing sections 1815.606(b) and 1815.7002.

PART 1816—TYPES OF CONTRACTS

5. Amend Part 1816 by —

(a) Removing Subpart 1816.1, sections 1816.203, 1816.203-4, 1816.306, 1816.307(b) and (d), 1816.504, 1816.505, 1816.505-70, and Subpart 1816.6;

(b) In section 1816.307, redesignating paragraphs (a) and (g) as (a)(1) and (g)(1) respectively; and

(c) In section 1816.402, deleting the period at the end of the introductory sentence and adding a colon in its place; and

(d) In paragraph (e) of section 1816.402-270, deleting the period at the end of the introductory sentence and adding a colon in its place.

PART 1817—SPECIAL CONTRACTING METHODS

6. Amend Part 1817 by removing Subpart 1817.1, sections 1817.203, 1817.204, 1817.206, 1817.207, Subparts 1817.4, 1817.5, 1817.70, 1817.72, 1817.7301, 1817.7301-1, 1817-7301-2, 1817.7301-3, 1817.7301-4,1817.7301-5; and in section 1817.7302 removing “described in 1817.7301-5” in the first sentence of paragraphs (a) and (b).

[FR Doc. 03-31408 Filed 12-19-03; 8:45 am]

BILLING CODE 7510-01-P